Title 3—

The President

Proclamation 9328 of September 24, 2015

Gold Star Mother's and Family's Day, 2015

By the President of the United States of America

A Proclamation

At every crossroads in the American story, courageous individuals of all backgrounds and beliefs have answered our Nation's call to serve. Today, the sacrifices of our fallen heroes echo in safer towns and cities, countries and continents—resonating throughout a world they forever made freer. Their legacies are solemnly enshrined in the history of our eternally grateful Nation, as well as in the hearts of all who loved them. Today, we honor the Gold Star Mothers and Families who carry forward the memories of those willing to lay down their lives for the United States and the liberties for which we stand.

The proud patriots of our Armed Forces never serve alone. Standing with each service member are parents, spouses, children, siblings, and friends, providing support and love and helping uphold the ideals that bind our Nation together. While most Americans may never fully comprehend the price paid by those who gave their last full measure of devotion, families of the fallen know it intimately and without end. Their sleepless nights allow for our peaceful rest, and the folded flags they hold dear are what enable ours to wave. The depth of their sorrow is immeasurable, and we are forever indebted to them for all they have given for us.

Despite their broken hearts, the families of these warriors are full of love and they continue to serve their communities and comfort our troops, veterans, and other military families. Our country is constantly inspired by their incredible resilience, and in their example we see the very best of America. On this day of remembrance, we honor our Gold Star Mothers and Families by living fully the freedom for which they have given so much, and by rededicating ourselves to our enduring obligation to serve them as well as they have served us.

The Congress, by Senate Joint Resolution 115 of June 23, 1936 (49 Stat. 1985 as amended), has designated the last Sunday in September as “Gold Star Mother's Day.”

NOW, THEREFORE, I, BARACK OBAMA, President of the United States of America, by virtue of the authority vested in me by the Constitution and the laws of the United States, do hereby proclaim September 27, 2015, as Gold Star Mother's and Family's Day. I call upon all Government officials to display the flag of the United States over Government buildings on this special day. I also encourage the American people to display the flag and hold appropriate ceremonies as a public expression of our Nation's gratitude and respect for our Gold Star Mothers and Families.

IN WITNESS WHEREOF, I have hereunto set my hand this twenty-fourth day of September, in the year of our Lord two thousand fifteen, and of the Independence of the United States of America the two hundred and fortieth.

[FR Doc. 2015-24902

Filed 9-28-15; 11:15 am]

Billing code 3295-F5-P